DEPARTMENT OF TRANSPORTATION

Federal Aviation Administration

First Meeting: RTCA Special Committee 206/Aeronautical Information Services (AIS) Data Link

AGENCY: Federal Aviation Administration (FAA), DOT.

ACTION: Notice of first meeting.

SUMMARY: The FAA is issuing this notice to advise the public of the initial meeting of RTCA Special Committee 206/Aeronautical Information Services (AIS) Data Link. The FAA is holding this meeting to provide interested individuals an opportunity to participate.

Time and Date: The meeting will be held July 18-20, 2005, from 9 a.m.-5 p.m.

ADDRESSES: The meeting will be held at RTCA, Inc., 1828 L Street, NW., Suite 805, Washington, DC 20036.

FOR FURTHER INFORMATION CONTACT: (1) RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for Special Committee 206/Aeronautical Information Services (AIS) Data Link meeting. RTCA is establishing Special Committee 206/Aeronautical Information Services (AIS) Data Link at the request of the Federal Aviation Administration. SC-206 is tasked to develop new Minimum Aviation System Performance Standards (MASPS) for Flight Information Services—“Tactical Use” and complete necessary revisions to existing RTCA documents DO-267A, Minimum Aviation System Performance Standards (MASPS) for Flight Information Services-Broadcast (FIS/B) Data Lind and DO-252, Minimum Interoperability Standards (MIS) for Automated Meteorological Transmission (AUTOMET). The agenda will include:

July 18:

• Opening Plenary Session (Welcome, Chairman Remarks and Introductions)

• Review and Approve Meeting Agenda

• Terms of Reference (TOR) Overview

• RTCA/EUROCAE Processes and Procedures

• Identification of Working Groups, Chairs, Secretaries

• Presentation: A number of National and International organizations including Air Traffic Control Facilities will present their vision and need for future weather and aeronautical data products to be delivered to the cockpits. General aviation, corporate and air carriers both Nationally and Internationally are included.

July 19:

• Continuation of Above Agenda Items

July 20: Work Program Discussion

• SC-206 TOR (Amendments and Proposals to TOR)

• Administrative Procedures

○ Document Control

○ Selection of Sub-Chairs and Secretaries

○ Web site

○ E-mail List and E-mail “Exploder”

○ Other Administrative

• Closing Plenary Session

○ Other Business

○ Establish Plans, Dates, Place and Agenda for Next Meeting

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on June 16, 2005.
Natalie Ogletree,
FAA General Engineer, RTCA Advisory Committee.

[FR Doc. 05-12531 Filed 6-23-05; 8:45 am]

BILLING CODE 4910-13-M